DEPARTMENT OF COMMERCE

International Trade Administration

[A-485-806]

Certain Hot-Rolled Carbon Steel Flat Products From Romania: Notice of Extension of Time Limit of Preliminary Results of Antidumping Duty Administrative Review

AGENCY: Import Administration, International Trade Administration, Department of Commerce.

ACTION: Notice of extension of time limit of preliminary results of antidumping duty administrative review.

SUMMARY: The Department of Commerce (the Department) is extending the preliminary results in the antidumping duty administrative review of certain hot-rolled carbon steel flat products (hot-rolled steel) from Romania covering the period November 1, 2002, through October 31, 2003. This extension is made pursuant to section 751(a)(3)(A) of the Tariff Act of 1930, as amended (the Act).

EFFECTIVE DATE: July 12, 2004.

FOR FURTHER INFORMATION CONTACT: Christopher C. Welty at (202) 482-0186 or Charles Riggle at (202) 482-0650, AD/CVD Enforcement, Import Administration, International Trade Administration, U.S. Department of Commerce, 14th Street and Constitution Avenue, NW., Washington, DC 20230.

Background

On December 24, 2003, the Department published a notice of initiation of administrative review of the antidumping duty order on hot-rolled steel from Romania, covering the period November 1, 2002 through October 31, 2003. See Initiation of Antidumping and Countervailing Duty Administrative Reviews, 68 FR 74550. The preliminary results for this review are currently due no later than August 2, 2004.

Section 751(a)(3)(A) of the Act requires the Department to complete the preliminary results of review within 245 days after the last day of the anniversary month of an order or finding for which a review is requested and the final results within 120 days after the date on which the preliminary results are published. If it is not practicable to complete the review within these time periods, section 751(a)(3)(A) of the Act allows the Department to extend the time limit for the preliminary results to a maximum of 365 days after the last day of the anniversary month of an order or finding for which a review is requested and for the final results to 180 days (or 300 days if the Department does not extend the time limit for the preliminary results) from the date of publication of the preliminary results.

Extension of Time Limit for Preliminary Results of Review

We determine that it is not practicable to complete the preliminary results of this review within the original time limit due to the complex nature of this review. Specifically, on March 10, 2003, the Department reclassified Romania as a market economy effective January 1, 2003, for the purposes of antidumping and countervailing duty proceedings. Because this review covers the period November 1, 2002, through October 31, 2003, the Department has determined to conduct a simultaneous split review, applying its non-market-economy methodology to the period November 1 through December 31, 2003, and its market-economy methodology from January 1 through October 31, 2003. Accordingly, the Department is analyzing both market-economy and non-market-economy questionnaire responses. Therefore, the Department is extending the time limit for completion of the preliminary results until no later than November 29, 2004. We intend to issue the final results no later than 120 days after publication of notice of the preliminary results.

This extension is in accordance with section 751(a)(3)(A) of the Act.

Dated: July 6, 2004.
Jeffrey A. May,
Deputy Assistant Secretary for Import Administration, Group I.

[FR Doc. 04-15730 Filed 7-9-04; 8:45 am]

BILLING CODE 3510-DS-P